Executive Order 13507 of April 8, 2009

Establishment of the White House Office of Health Reform

By the authority vested in me as President by the Constitution and the laws of the United States of America, and in the interest of providing all Americans access to affordable and high-quality health care, it is hereby ordered as follows:

Section 1. Policy. Reforming the health care system is a key goal of my Administration. The health care system suffers from serious and pervasive problems; access to health care is constrained by high and rising costs; and the quality of care is not consistent and must be improved, in order to improve the health of our citizens and our economic security.

Sec. 2. Establishment. (a) There is established a White House Office of Health Reform (Health Reform Office) within the Executive Office of the President that will provide leadership to the executive branch in establishing policies, priorities, and objectives for the Federal Government's comprehensive effort to improve access to health care, the quality of such care, and the sustainability of the health care system.

(b) The Secretary of Health and Human Services, to the extent permitted by law, shall establish within the Department of Health and Human Services (HHS) an Office of Health Reform, which shall coordinate closely with the White House Office of Health Reform.

Sec. 3. Functions. The principal functions of the Health Reform Office, to the extent permitted by law, are to:

(a) provide leadership for and to coordinate the development of the Administration's policy agenda across executive departments and agencies concerning the provision of high-quality, affordable, and accessible health care and to slow the growth of health costs; this shall include coordinating policy development with the Domestic Policy Council, National Economic Council, Council of Economic Advisers, Office of Management and Budget, HHS, Office of Personnel Management, and such other executive departments and agencies as the Director of the Health Reform Office may deem appropriate;

(b) work with executive departments and agencies to ensure that Federal Government policy decisions and programs are consistent with the President's stated goals with respect to health reform;

(c) integrate the President's policy agenda concerning health reform across the Federal Government;

(d) coordinate public outreach activities conducted by executive departments and agencies designed to gather input from the public, from demonstration and pilot projects, and from public-private partnerships on the problems and priorities for policy measures designed to meet the President's goals for improvement of the health care system;

(e) bring to the President's attention concerns, ideas, and policy options for strengthening, increasing the efficiency, and improving the quality of the health care system;

(f) work with State, local, and community policymakers and public officials to expand coverage, improve quality and efficiency, and slow the growth of health costs;

(g) develop and implement strategic initiatives under the President's agenda to strengthen the public agencies and private organizations that can improve the performance of the health care system;

(h) work with the Congress and executive departments and agencies to eliminate unnecessary legislative, regulatory, and other bureaucratic barriers that impede effective delivery of efficient and high-quality health care;

(i) monitor implementation of the President's agenda on health reform; and

(j) help ensure that policymakers across the executive branch work toward the President's health care agenda.

Sec. 4. Administration. (a) The Health Reform Office may work with established or ad hoc committees, task forces, or interagency groups.

(b) The Health Reform Office shall have a staff headed by the Director of the Health Reform Office (Director). The Health Reform Office shall have such staff and other assistance as may be necessary to carry out the provisions of this order.

(c) As requested by the Director, each executive department and agency shall designate a liaison to work with the Health Reform Office on improving access to health care, the quality of health care, and the sustainability of the health care system.

(d) All executive departments and agencies shall cooperate with the Health Reform Office and provide such information, support, and assistance to the Health Reform Office as it may request, to the extent permitted by law.

Sec. 5. General Provisions. (a) Nothing in this order shall be construed to impair or otherwise affect:

(i) authority granted by law to a department, agency, or the head thereof; or

(ii) functions of the Director of the Office of Management and Budget relating to budgetary, administrative, or legislative proposals.

(b) This order shall be implemented consistent with applicable law and subject to the availability of appropriations.

(c) This order is not intended to, and does not, create any right or benefit, substantive or procedural, enforceable at law or in equity, by any party against the United States, its departments, agencies, or entities, its officers, employees, or agents, or any other person.

THE WHITE HOUSE,

April 8, 2009.

[FR Doc. E9-8572

Filed 4-10-09; 11:15 am]

Billing code 3195-W9-P